FEDERAL COMMUNICATIONS COMMISSION

[OMB 3060-0750; FR ID 291118]

Information Collection Being Reviewed by the Federal Communications Commission

Correction

In notice document 2025-07309, appearing on page 17818 in the issue of Tuesday, April 29, 2025, make the following correction:

On page 17818, in the second column, in the DATES section, in the second and third lines, “April 29, 2025.” should read “June 30, 2025.”

[FR Doc. C1-2025-07309 Filed 5-1-25; 8:45 am]

BILLING CODE 0099-10-D